DEPARTMENT OF THE INTERIOR

Fish and Wildlife Service

[FWS-R1-ES-2009-N0072; 10120-1112-0000-F2]

Proposed Programmatic Safe Harbor Agreement for Oregon Chub, Willamette Valley, OR

AGENCY: Fish and Wildlife Service, Interior.

ACTION: Notice of availability; receipt of application.

SUMMARY: The Oregon Department of Fish and Wildlife (ODFW) has applied to the U.S. Fish and Wildlife Service (Service) for an enhancement of survival permit pursuant to section 10(a)(1)(A) of the Endangered Species Act of 1973, as amended. The permit application includes a proposed Programmatic Safe Harbor Agreement (Agreement) between ODFW and the Service. The proposed term of the permit and Agreement is 30 years. The requested permit would authorize ODFW to extend incidental take coverage with assurances to eligible landowners who are willing to carry out habitat management measures that would benefit the federally-listed as endangered Oregon chub (Oregonichthys crameri) by enrolling them under the Agreement as Cooperators through issuance of Certificates of Inclusion. The covered area or geographic scope of this Agreement includes all non-Federal properties in the Willamette Valley between the cities of Oregon City and Oakridge, Oregon, the estimated historical distribution of the species. We request comments from the public on the permit application, proposed Agreement, and related documents, which are available for review (see ADDRESSES below).

DATES: Comments must be received from interested parties on or before June 18, 2009. The final permit decision will be made no sooner than June 18, 2009.

ADDRESSES: You may obtain copies of the documents for review by contacting State Supervisor, U.S. Fish and Wildlife Service, 2600 SE. 98th Ave., Suite 100, Portland, OR 97266; facsimile (503) 231-6195; or by making an appointment to view the documents at the above address during normal business hours. You may also view the documents on the Internet through http://www.fws.gov/oregonfwo/species/. You may submit your written comments to State Supervisor, Fish and Wildlife Service, 2600 SE. 98th Ave., Suite 100, Portland, Oregon 97266, or facsimile (503) 231-6195. Include your name and address in your comments and refer to the `Oregon chub Programmatic Safe Harbor Agreement'.

FOR FURTHER INFORMATION CONTACT: Paul Henson, State Supervisor, U.S. Fish and Wildlife Service, Oregon Fish and Wildlife Office, 2600 SE. 98th Avenue, Suite 100, Portland, Oregon, 97266; (telephone 503/231-6179). Persons who use a telecommunications device for the deaf (TDD) may call the Federal Information Relay Service (FIRS) at 800/877-8339, 24 hours a day, 7 days a week.

SUPPLEMENTARY INFORMATION: Under a Safe Harbor Agreement, participating landowners voluntarily undertake management activities on their property to enhance, restore, or maintain habitat benefiting species listed under the Endangered Species Act of 1973, as amended (Act; 16 U.S.C. 1531 et seq.). Safe Harbor Agreements, and the subsequent enhancement of survival permits that are issued pursuant to section 10(a)(1)(A) of the Act, encourage private and other non-Federal property owners to implement conservation efforts for listed species by assuring the landowners that they will not be subjected to increased property use restrictions as a result of their efforts to either attract listed species to their property, or to increase the numbers or distribution of listed species already on their property. Application requirements and issuance criteria for enhancement of survival permits through Safe Harbor Agreements are found in 50 CFR 17.22(c). These permits allow any necessary future incidental take of any covered species above the mutually agreed upon baseline conditions for those species in accordance with the terms of the permit and accompanying agreement.

We jointly developed the proposed Agreement with ODFW for the conservation of the Oregon chub. The area covered by this Agreement includes the portion of the Willamette Valley estimated to be within the historical distribution of the species. Sites not currently occupied by Oregon chub will have a baseline condition of zero unless a landowner is willing to accept a baseline greater than zero to support an enhanced level of conservation after the Agreement expires. Sites currently occupied by Oregon chub will have their baseline conditions determined on a case-by-case basis, with landowner consent, by ODFW and the Service until a Service-approved protocol for determining non-zero baselines is developed.

The purpose of this Agreement is to establish new populations of Oregon chub as refugia for natural populations through translocations and to increase the abundance, distribution and survival of existing natural populations through voluntary habitat improvements or protections. The Oregon chub was listed as an endangered species by the Service in 1993 (58 FR 53800). At the time of listing, Oregon chub was known to occur at only nine locations within a 30-kilometer (18.6-mile) reach of the Willamette River, representing approximately two percent of the species' historic range. In 2007, there were 19 populations totaling 500 or more individuals. The primary threats affecting Oregon chub include: Competition and predation by nonnative fish; the potential for initial or further introduction of nonnative fish; vegetative succession of shallow aquatic habitats; possible agricultural chemical runoff; possible excessive siltation from logging in the watershed; other threats to water quality (including threat of toxic spills, low dissolved oxygen); fluctuations in water levels due to regulated flow management at flood control dams, as well as low summer water levels; and the loss of genetic diversity as a result of managing Oregon chub populations in isolated habitats.

The status of Oregon chub has improved in recent years, resulting primarily from successful introductions and the discovery of previously undocumented populations. A recent 5-year status review of Oregon chub determined the species no longer warrants listing as endangered. A proposed rule to downlist the species to threatened status is in development, as is a proposal to designate critical habitat.

Under this Agreement, private lands may be enrolled through individual Cooperative Agreements between the ODFW and cooperating landowners (Cooperators). The duration of the Cooperative Agreements will be a minimum of 10 years. Cooperators will be issued a Certificate of Inclusion which will allow activities on the Enrolled Properties to be included within ODFW's section 10(a)(1)(A) Enhancement of Survival permit. Cooperators may renew their Cooperative Agreements to remain in effect for the 30-year duration of the permit. Cooperators will avoid conducting activities that could adversely affect the Oregon chub's habitat within a specified distance during the term of their Cooperative Agreement.

Without the regulatory assurances provided through the Agreement and permit, landowners may otherwise be unwilling or reluctant to engage in activities that would place federally listed species such as the Oregon chub onto their properties. The proposed Agreement is expected to provide a net conservation benefit to the Oregon chub by creating new refugia populations through translocations or by enhancing the quality, quantity or connectivity of floodplain habitat for naturally occurring populations, thereby increasing the distribution, abundance and genetic diversity of the species.

The Service has made a preliminary determination that the proposed Agreement and permit application are eligible for a categorical exclusion under the National Environmental Policy Act of 1969 (NEPA). We explain the basis for this determination in an Environmental Action Statement that is also available for public review (see ADDRESSES).

Public Availability of Comments

Before including your address, phone number, e-mail address, or other personal identifying information in your comment, you should be aware that your entire comment—including your personal identifying information—may be made publicly available at any time. While you can ask us in your comment to withhold your personal identifying information from public review, we cannot guarantee that we will be able to do so.

The Service will evaluate the permit application, associated documents, and comments submitted thereon to determine whether the permit application meets the requirements of section 10(a)(1)(A) of the Act and NEPA regulations. If we determine that all requirements are met, we will sign the Agreement and issue an enhancement of survival permit under section 10(a)(1)(A) of the Act to ODFW for the take of Oregon chub, incidental to otherwise lawful activities in accordance with the terms of the Agreement. This notice is provided pursuant to section 10(c) of the Act and NEPA regulations (40 CFR 1506.6).

Dated: April 14, 2009.
Paul Henson,
State Supervisor, Fish and Wildlife Service, Oregon Fish and Wildlife Office, Portland, Oregon.

[FR Doc. E9-11562 Filed 5-18-09; 8:45 am]

BILLING CODE 4310-55-P